DEPARTMENT OF DEFENSE

Office of the Secretary

[Docket ID DOD-2011-OS-0101]

Privacy Act of 1974; Systems of Records

AGENCY: National Security Agency/Central Security Service, Department of Defense (DoD).

ACTION: Notice to Amend a System of Records.

SUMMARY: The National Security Agency (NSA) is proposing to amend a system of records notice in its existing inventory of records systems subject to the Privacy Act of 1974 (5 U.S.C. 552a), as amended.

DATES: This proposed action will be effective without further notice on October 24, 2011 unless comments are received which result in a contrary determination.

ADDRESSES: You may submit comments, identified by docket number and title, by any of the following methods:

• Federal Rulemaking Portal: http://www.regulations.gov.

Follow the instructions for submitting comments.

• Mail: Federal Docket Management System Office, 4800 Mark Center Drive, 2nd floor, East Tower, Suite 02G09, Alexandria, VA 22350-3100.

• Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill, National Security Agency/Central Security Service, Freedom of Information Act and Privacy Act Office, 9800 Savage Road, Suite 6248, Ft. George G. Meade, MD 20755-6248, or by phone at (301) 688-6527.

SUPPLEMENTARY INFORMATION: The National Security Agency/Central Security System systems of records notices subject to the Privacy Act of 1974 (5 U.S.C. 552a), as amended, have been published in the Federal Register and are available from the address in FOR FURTHER INFORMATION CONTACT.

The specific changes to the records system being amended are set forth below followed by the notice, as amended, published in its entirety. The proposed amendment is not within the purview of subsection (r) of the Privacy Act of 1974 (5 U.S.C. 552a), as amended, which requires the submission of a new or altered system report.

Dated: September 19, 2011.
Aaron Siegel,
Alternate OSD Federal Register Liaison Officer, Department of Defense.

GNSA 16

System name:

NSA/CSS Drug Testing Program (October 1, 2008, 73 FR 57064)

Changes:

* * * * *

System location:

Delete entry and replace with “National Security Agency/Central Security Service, 9800 Savage Road, Ft. George G. Meade, MD 20755-6000.”

* * * * *

Categories of records in the system:

Delete entry and replace with “Name, Social Security Number (SSN), an assigned identification code (I.D. code), organization, work phone number, and records relating to the selection, notification, and testing of covered individuals as well as urine specimens and drug test results.”

* * * * *

Purpose(s):

Delete entry and replace with “The system is used to maintain NSA/CSS Drug Program Coordinator records on the selection, notification, and testing for illegal drug use (i.e., urine specimens, drug test results, chain of custody records, etc.) of employees and applicants for employment.

Records contained in this system are also used by the employee's Medical Review Official; the administrator of any Employee Assistance Program in which the employee is receiving counseling or treatment or is otherwise participating; and supervisory or management officials having authority to take adverse personnel action against such employee.”

* * * * *

Storage:

Delete entry and replace with “Paper records in file folders and electronic storage media.”

* * * * *

Retrievability:

Delete entry and replace with “Records are retrieved by name, SSN, or I.D. code.”

* * * * *

System manager(s) and address:

Delete entry and replace with “NSA Drug Program Coordinator, National Security Agency/Central Security Service, 9800 Savage Road, Fort George G. Meade, MD 20755-6000.”

Notification Procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, SSN, mailing address, and signature.”

Record Access Procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, SSN, mailing address, and signature.”

Contesting Record Procedures:

Delete entry and replace with “The NSA/CSS rules for contesting contents and appealing initial agency determinations are published at 32 CFR part 322 or may be obtained by written request addressed to the National Security Agency/Central Security Service, Freedom of Information Act (FOIA)/Privacy Act Office, 9800 Savage Road, Suite 6248, Ft. George G. Meade, MD 20755-6248.”

* * * * *

GNSA 16

System name:

NSA/CSS Drug Testing Program

System location:

National Security Agency/Central Security Service, 9800 Savage Road, Ft. George G. Meade, MD 20755-6000.

Categories of individuals covered by the system:

National Security Agency/Central Security Service (NSA/CSS) applicants for employment and employees tested for the use of illegal drugs.

Categories of records in the system:

Name, Social Security Number (SSN), an assigned identification code (I.D. code), organization, work phone number, and records relating to the selection, notification, and testing of covered individuals as well as urine specimens and drug test results.

Authority for maintenance of the system:

5 U.S.C. 7302 note; 5 U.S.C. 7361, Drug abuse; E.O. 12564, Drug Free Workplace; DoD Directive 1010.9, DoD Civilian Employee Drug Abuse Testing Program; and E.O. 9397 (SSN), as amended.

Purpose(s):

The system is used to maintain NSA/CSS Drug Program Coordinator records on the selection, notification, and testing for illegal drug use (i.e., urine specimens, drug test results, chain of custody records, etc.) of employees and applicants for employment.

Records contained in this system are also used by the employee's Medical Review Official; the administrator of any Employee Assistance Program in which the employee is receiving counseling or treatment or is otherwise participating; and supervisory or management officials having authority to take adverse personnel action against such employee.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

In order to comply with provisions of 5 U.S.C. 7301, DoD `Blanket Routine Uses' do not apply to this system of records.

To a court of competent jurisdiction where required by the United States Government to defend against any challenge against any adverse personnel action.

Policies and practices for storing, retrieving, accessing, retaining, and disposing of records in the system:

Storage:

Paper records in file folders and electronic storage media.

Retrievability:

Records are retrieved by name, SSN, or I.D. code.

Safeguards:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retention and disposal:

Records relating to the selection of specific employees/applicants for testing, the scheduling of tests and negative test results are retained for three years and then destroyed by shredding, burning, or erasure in the case of electronic media. Positive test records are permanently retained.

System manager(s) and address:

NSA Drug Program Coordinator, National Security Agency/Central Security Service, 9800 Savage Road, Fort George G. Meade, MD 20755-6000.

Notification procedures:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, SSN, mailing address, and signature.

Record Access procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, SSN, mailing address, and signature.

Contesting record procedures:

The NSA/CSS rules for contesting contents and appealing initial agency determinations are published at 32 CFR part 322 or may be obtained by written request addressed to the National Security Agency/Central Security Service, Freedom of Information Act (FOIA)/Privacy Act Office, 9800 Savage Road, Suite 6248, Ft. George G. Meade, MD 20755-6248.

Record source categories:

Contents of the record are obtained from the individual about whom the record pertains, from laboratories that test urine specimens for the presence of illegal drugs, from supervisors and managers and other NSA/CSS employees, from confidential sources, and from other sources as appropriate and required.

Exemptions claimed for the system:

None.

[FR Doc. 2011-24341 Filed 9-21-11; 8:45 am]

BILLING CODE 5001-06-P